DEPARTMENT OF TRANSPORTATION

Federal Railroad Administration

[Docket No. FRA-2012-0006-N-16]

Notice and Request for Comments

AGENCY: Federal Railroad Administration (FRA), Department of Transportation (DOT).

ACTION: Notice and request for comments.

SUMMARY: In compliance with the Paperwork Reduction Act of 1995, this notice announces that the Information Collection Requirements (ICRs) abstracted below have been forwarded to the Office of Management and Budget (OMB) for review and comment. The ICRs describe the nature of the information collections and their expected burdens. The Federal Register notice with a 60-day comment period soliciting comments on the following collections of information was published on September 20, 2012.

DATES: Comments must be submitted on or before December 21, 2012.

FOR FURTHER INFORMATION CONTACT: Ms. Janet Wylie, Office of Planning and Administration, RPD-3, Federal Railroad Administration, 1200 New Jersey Avenue SE., Mail Stop 20, Washington, DC 20590 (telephone: (202) 493-6353), or Ms. Kimberly Toone, Office of Information Technology, RAD-20, Federal Railroad Administration, 1200 New Jersey Ave. SE., Mail Stop 35, Washington, DC 20590 (telephone: (202) 493-6132). (These telephone numbers are not toll-free.).

SUPPLEMENTARY INFORMATION: The Paperwork Reduction Act of 1995 (PRA), Public Law 104-13, Section 2, 109 Stat. 163 (1995) (codified as revised at 44 U.S.C. 3501-3520), and its implementing regulations, 5 CFR Part 1320, require Federal agencies to issue two notices seeking public comment on information collection activities before OMB may approve paperwork packages. 44 U.S.C. 3506, 3507; 5 CFR 1320.5, 1320.8(d)(1), 1320.12. On September 20, 2012, FRA published a 60-day notice in the Federal Register soliciting comments on ICR that the agency was seeking OMB approval. 75 FR 58439. FRA received no comments after issuing this 60-day notice. Accordingly, DOT announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30 day notice is published. 44 U.S.C. 3507 (b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requirements (ICRs) and the expected burden. The revised requirements are being submitted for clearance by OMB as required by the PRA.

Title: Survey of Northeast Regional and Intercity household Travel Attitudes and Behavior.

OMB Control Number: None.

Type of Request: New Information Collection Requirement.

Affected Public: Members of the general public between the ages of 18 and 74 who have Northeast intercity or regional travel experience during the 12 months prior to interview.

Estimated Number of Respondents: up to 22,500 for phase 1; up to 15,000 for phase 2

Abstract: FRA proposes to collect information from the public to determine current intercity and regional travel behavior of Northeast residents. The information collected will include frequency of trips, origin and destination, modes of travel (and class of service if applicable), trip purpose, party size, trip costs, and other trip characteristics. It will also ask for travel preferences under alternative choice scenarios that include different and new modes, classes of service, costs, and amenities.

The proposed information collection will be conducted in two phases. The first phase (Phase 1 Survey) will be conducted by telephone, using computer-assisted telephone interviewing (CATI). A dual frame sample design with be used including both landlines and cell phones. The Phase 1 Survey will obtain basic travel information and invite just those who experienced a qualifying intercity or regional travel trip to provide more detailed travel information and choice preferences in a second phase. The Phase 1 Survey interview is estimated to take five (5) minutes to complete. The second phase (Phase 2 Survey), which will immediately follow the first, will be administered by web (except in cases when easy web access is not possible and the participant needs a mailed paper survey). The Phase 2 Survey will ask more detailed questions about one randomly selected trip that the respondent reported in the first phase of the survey. In addition, it will ask the travel preference questions. The Phase 2 Survey is estimated to take 15 minutes to complete.

The Northeast faces major congestion and capacity constraints that, if not addressed, will have the potential to curtail future mobility and economic growth in the region. Thus, FRA established the Northeast Corridor (NEC) Future Program to develop a Passenger Rail Corridor Investment Plan (PRCIP) for the Northeast region. The PRCIP will address the larger goals of improving mobility, effectively serving travel demand, supporting economic development, reducing growth in carbon emissions and dependence of foreign oil, and contributing to improved land utilization. The PRCIP requires the development and evaluation of improved transportation alternatives for the Northeast. In support of preparing the PRCIP, this data collection is needed to build a model for estimating market demand for transportation in the Northeast and to evaluate how travelers would respond to alternative transportation service options.

While there are certain publicly available data that can assist in analyzing the Northeast travel market during the early phases of the project when alternatives are evaluated using coarse screening tools, more detailed data will be needed to support development of the detailed PRCIP. Currently available data include airline ticket data, Amtrak ticket data, and commuter rail ticket data. But these data sources do not contain information on the characteristics of the traveler (such as age, income, or vehicle ownership), trip purpose, detail on party size, or actual origins and destinations. Importantly, there is no current information on the number of intercity trips taken by automobile in the Northeast. Further, there is not currently a sufficient information source for traveler preferences regarding new transportation services that might be developed as part of the PRCIP.

Form Number(s): FRA F222.

Annual Estimated Burden Hours: 5,625 hours.

ADDRESSES: Send comments regarding these information collections to the Office of Information and Regulatory Affairs, Office of Management and Budget, 725 Seventeenth Street NW., Washington, DC, 20503, Attention: FRA Desk Officer. Alternatively, comments may be sent via email to the Office of Information and Regulatory Affairs (OIRA), Office of Management and Budget, at the following address: oira_submissions@omb.eop.gov.

Comments are invited on the following: Whether the proposed collections of information are necessary for the proper performance of the functions of the Department, including whether the information will have practical utility; the accuracy of the Department's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: 44 U.S.C. 3501-3520.

Issued in Washington, DC, on November 15, 2012.
Michael Logue,
Associate Administrator for Administration, Federal Railroad Administration.

[FR Doc. 2012-28421 Filed 11-20-12; 8:45 am]

BILLING CODE 4910-06-P